DEPARTMENT OF AGRICULTURE

Rural Utilities Service

[Docket #: RUS-21-ELECTRIC-0004]

NextEra Energy Resources: Notice of Intent To Prepare an Environmental Impact Statement and Hold Public Scoping Meeting

AGENCY: Rural Utilities Service, USDA.

ACTION: Notice of intent to prepare an Environmental Impact Statement and hold public scoping meeting.

SUMMARY: The Rural Utilities Service (RUS) announces its intent to prepare an Environmental Impact Statement (EIS) and hold a virtual public scoping meeting in connection with possible impacts related to the Skeleton Creek Solar and Battery Storage Project (Project) proposed by NextEra Energy Resources (NextEra or Applicant). The Project will consist of a 250-megawatt (MW) solar array, plus 200-MW/800-megawatt-hour (MWh) storage facility using photovoltaic (PV) modules on private lands in Garfield County, Oklahoma. NextEra is seeking federal loan financing from RUS to support construction of the Project. RUS has determined that a loan for the Project would be a federal action and is, therefore, subject to National Environmental Policy Act (NEPA) review, with RUS as the lead federal agency, for preparation of the EIS.

DATES: Written requests to participate as a Cooperating Agency in the preparation of the EIS, participate as a Consulting Party in the Section 106 consultation process, or to provide comments for consideration during the scoping process for the proposed Project must be received on or before April 19, 2021. One virtual public scoping meeting will be held on March 30, 2021 from 5:00 p.m. EST-9:00 p.m. EST. The public scoping meeting will be conducted in a virtual format with RUS and NextEra representatives. Attendees will be able to submit comments during the virtual public meeting orally or via the chat function. The public scoping meeting will be recorded and kept as part of the Project record. More information about the virtual public scoping meeting can be found at: https://www.rd.usda.gov/resources/environmental-studies.

ADDRESSES: To send comments or request further information, send a request to SkeletonCreekSolarPublicComments@usda.gov. Due to the COVID 19 epidemic, hard copies of mail will not be accepted.

All project related information will be posted as it becomes available on the RUS' website located at: https://www.rd.usda.gov/environmentalstudy/skeleton-creek-EIS.

As of this publication, an Alternatives Evaluation Study/Site Selection Study has been prepared for the Skeleton Creek Solar and Battery Storage Project and is currently available at RUS's website at: https://www.rd.usda.gov/environmentalstudy/skeleton-creek-EIS.

SUPPLEMENTARY INFORMATION: With this notice, federal and state agencies and federally-recognized Tribes with jurisdiction or special expertise are invited to be cooperating agencies. Such agencies or Tribes may make a request to RUS to be a cooperating agency by contacting the RUS at the email address provided in this notice below. On January 7, 2021 USDA's Chief Environmental Review and Policy Officer (CERPO) invited federal agencies to cooperate in the preparation of the EIS. The US Army Corps of Engineers (USACE) has indicated that they intend to participate as a cooperating agency. Designated cooperating agencies have certain responsibilities to support the NEPA and scoping process, as specified at 40 CFR 1501.6(b). In addition, with this notice RUS invites any affected federal, state, and local agencies; Tribes; and other interested persons to comment on the scope, alternatives, and significant issues to be analyzed in depth in the EIS.

The proposed Project is considered an undertaking subject to review under Section 106 of the National Historic Preservation Act (NHPA), 16 United States Code 470(f), and its implementing regulation, “Protection of Historic Properties” (36 CFR 800). Any party wishing to participate directly with RUS as a “consulting party” in NHPA Section 106 review may submit a written request to the RUS email address provided below. Pursuant to 36 CFR 800.3(f)(3), RUS will consider, and provide a timely response to, any and all requests for consulting party status.

The Project consists of a 250-MW solar array, plus 200-MW/800-MWh storage facility that will utilize PV modules. The Project will be located entirely on privately owned farmland, rural residences, and riparian areas in a rural area in Garfield County, Oklahoma. The Application Area encompasses approximately 12,250 acres. Within the Application Area, construction will occur on an approximately 4,500- to 6,000-acre project area.

The Project consists of four major components: PV solar arrays (the main Project footprint), energy storage facilities (batteries, racking, inverters), linear facilities (as further described below), and transmission interconnection facilities (a substation/switchyard that interconnects to the existing OG&E 345-kV Woodring Substation via an estimated 2- to 4-mile gen-tie).

The Applicant entered into a power purchase agreement with Western Farmers Electric Cooperative (WFEC) for the solar and energy storage project. WFEC's objective is to provide safe, adequate, and reliable power to its members at the lowest reasonable cost. The Project will allow the Applicant to provide the additional generation capacity needed by WFEC to achieve these goals and to serve electrical needs within the service territories of their member cooperatives.

Among the alternatives that RUS will address in the EIS is the No Action alternative, under which the proposal will not be undertaken or if RUS did not fund the proposed Project, and any reasonable alternatives defined as a result of the scoping process. In the EIS, the effects of the proposal will be compared to the existing conditions in the affected area of the proposal. Public health and safety, environmental impacts, socio-economic, and engineering aspects of the proposal will also be considered in the EIS.

As part of its broad environmental review process, RUS must take into account the effect of the proposal on historic properties in accordance with Section 106 of the NHPA (Section 106) and its implementing regulation, “Protection of Historic Properties” (36 CFR 800). Pursuant to 36 CFR 800.2(d)(3), RUS is using its procedures for public involvement under NEPA to meet its responsibilities to solicit and consider the views of the public during NHPA Section 106 review. Accordingly, comments submitted in response to this Notice will inform RUS decision-making during NHPA Section 106 review.

RUS will use input provided by government agencies, private organizations, and the public in the preparation of a Draft EIS. The Draft EIS will be filed with the U.S. Environmental Protection Agency (EPA) and will be available for public comment 45 days from the date the EPA publishes its Federal Register notice. A Final EIS that considers all comments received will subsequently be prepared. The Final EIS will be available for review and comment for 30 days. Following the 30-day comment period, RUS will prepare a Record of Decision (ROD). Notices announcing the availability of the Draft EIS, the Final EIS, and the ROD will be published in the Federal Register and in local newspapers.

Any final action by RUS related to the proposal will be subject to, and contingent upon, compliance with all relevant executive orders and federal, state, and local environmental laws and regulations in addition to the completion of the environmental review requirements as prescribed in RUS Environmental Policies and Procedures, 7 CFR 1970.

Christopher A. McLean,
Acting Administrator, Rural Utilities Service.

[FR Doc. 2021-05255 Filed 3-12-21; 8:45 am]

BILLING CODE 3410-15-P